DEPARTMENT OF AGRICULTURE

Submission for OMB Review; Comment Request; Correction

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 26, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Office of Partnerships and Public Engagement

Title: Generic Clearance for Application Information and Follow-up Information for Fellowships, Scholarships, Internships, and Training Programs.

OMB Control Number: 0503-NEW.

Summary of Collection: The Department of Agriculture published a document in the Federal Register on July 22, 2024, 89 FR 59037, concerning a request for comments for a new Information Collection “Generic Clearance for Application Information and Follow-up Information for Fellowships, Scholarships, Internships, and Training Program” OMB control number 0503-NEW. In this FRN, it was issued under the program office, Office of Procurement and Property Management. The FRN belongs to the Office of Partnerships and Public Engagement and the heading of the FRN should be corrected to read as such.

Levi S. Harrell,
Departmental Information Collection Clearance Officer.

[FR Doc. 2024-16422 Filed 7-25-24; 8:45 am]

BILLING CODE 3412-88-P